DEPARTMENT OF THE INTERIOR

Bureau of Land Management

[UT 110-1610-DO-]

Notice of Intent To Prepare a Resource Management Plan for Public Lands and Resources Managed by the Kanab Field Office and Call for Coal Information

AGENCY: Bureau of Land Management, Interior.

ACTION: Notice of intent.

SUMMARY: This document provides notice that the Bureau of Land Management (BLM) intends to prepare a Resource Management Plan (RMP) and EIS for lands managed by the Kanab Field Office. These planning activities encompass approximately 600,000 acres of public land in Garfield and Kane Counties, Utah. The plan will fulfill the needs and obligations set forth by the National Environmental Policy Act (NEPA), the Federal Land Policy and Management Act (FLPMA), and BLM management policies. The BLM will work collaboratively with interested parties to identify the management decisions that are best suited to local, regional, tribal, and national needs and concerns. The public scoping process will identify planning issues and develop planning criteria, including an evaluation of the existing land use plans in the context of the needs and interests of the public.

ADDRESSES: For the Kanab Field Office RMP, written comments should be sent to RMP Comments, Bureau of Land Management, Kanab Field Office, 318 N. 100 E., Kanab, UT 84741; or Fax 435-644-4620. Documents pertinent to this proposal may be examined at the BLM's Kanab Field Office.

All comments and/or data received, including names and street addresses of respondents, will be available for public review at the Field Office during regular business hours, 8 a.m. to 4:30 p.m., Monday through Friday, except holidays, and may be published as part of the EIS. Individual respondents may request confidentiality. If you wish to withhold your name or address from public review or from disclosure under the Freedom of Information Act, you must state this prominently at the beginning of your written comment. Such requests will be honored to the extent allowed by law. Anonymous comments will not be accepted. All submissions from organizations and businesses, and from individuals identifying themselves as representatives or officials of organizations or businesses, will be available for public inspection in their entirety.

FOR FURTHER INFORMATION CONTACT: For further information regarding the Kanab RMP and/or to have your name added to this mailing list, contact Lorraine Christian, RMP Project Manager, Bureau of Land Management, Kanab Field Office, 318 N. 100 E., Kanab, UT 84741, phone: 435-644-4600.

SUPPLEMENTARY INFORMATION: We will hold public meetings throughout the region in order to promote public involvement in this process. In order to ensure local community participation and input, public meetings will be held at a variety of locations, which will likely include Kanab, Escalante, Panguitch, St. George, and Salt Lake City, Utah. These and other locations, if necessary, will be announced in local and regional news media, and planning bulletins. The minutes and list of attendees for each meeting will be available to the public and open for 30 days to any participant who wishes to clarify the views he or she expressed. Comments on issues and planning criteria will be most useful if received during the ongoing scoping period at the address listed above. Written comments will be accepted throughout the planning process at the address shown below. In addition to the ongoing public scoping process, formal opportunities for public participation will be provided during a comment period for the draft alternatives and upon publication of the draft RMP/draft EIS. Early participation by all interested parties is encouraged and will help shape the future management of the public lands in the Kanab Field Office.

Preliminary issues and management concerns have been identified by BLM personnel during planning evaluations and pre-planning analysis for the RMP. They represent the BLM's knowledge to date of the existing issues and concerns with current management. The major issues that will be addressed in the plan revisions are: management and protection of public land resources; management of conflicting and competing uses; access to and transportation on the public-lands; and balancing multiple uses. Other specific issues may include cultural resource management, fire management, woodland harvest and management, lands and realty management, rangeland health and management potential, establishment of special designation areas, and special-status species management.

43 CFR 3420.1-2(a) requires that the BLM publish a call for coal and other resource information in the Federal Register if there are areas with coal occurrence in the planning area. Parties interested in coal leasing and development should provide coal resource data for their area(s) of interest. Identification of interests in future coal leasing, substantiated with adequate coal resources data, allows the BLM to address development potential during the RMP process and helps avoid unnecessary work, delays, or RMP amendments.

Proprietary data marked as confidential may be submitted in response to this call for coal resource information and other resource information. Please submit all proprietary information submissions to the individual at the address listed above. The BLM will treat submissions marked as “Confidential” in accordance with the laws and regulations governing the confidentiality of such information.

In addition to coal resource data, the BLM seeks resource information and data for other public land values and uses (e.g., air quality, cultural resources, fire/fuels, fisheries, forestry, geologic hazards, lands and realty, oil and gas (including coalbed methane), paleontology, rangeland management, recreation, visual resources, water quality, soils, sociology, economics, and wildlife, among others).

After gathering public comments on what issues the plan should address, the suggested issues will be placed in one of three categories:

1. Issues to be resolved in the plan;

2. Issues resolved through policy or administrative action; or

3. Issues beyond the scope of this plan.

Rationale will be provided in the plan for each issue placed in category two or three. In addition to the major issues, a number of management questions and concerns will be addressed in the plan. The public is encouraged to help identify these questions and concerns during the scoping phase of plan development. An interdisciplinary approach will be used to develop the plan in order to consider the variety of resource issues and concerns identified. The Field Office is seeking public involvement at the earliest possible stages of this planning process in order to enhance collaboration. If you have information or concerns you would like to share, including ideas or opportunities that could enhance data collection, resource inventories, formulation of issues or alternatives, or development of planning criteria that would be applicable to the Kanab planning effort, please submit them to the above address.

A reasonable range of alternatives that resolve those issues and management concerns identified during the scoping process will be developed and analyzed in the Draft RMP/Draft EIS, which will be published and made available for public review.

Sally Wisely,
State Director.

[FR Doc. 04-7417 Filed 4-1-04; 8:45 am]

BILLING CODE 4310-DQ-P